NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 24, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Michael Miller, Director, Modern Records Programs (NWM), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-00-16, 7 items, 7 temporary items). Records relating to readiness training of senior intelligence officers. Included are such records as correspondence, planning committee invitations and minutes, on-going training files, budget and financial status reports, and inspection files. Also included are electronic copies of documents created using electronic mail and word-processing. This schedule authorizes the agency to apply the proposed disposition instructions to any recordkeeping medium.

2. Department of the Army, Agency-wide (N1-AU-01-10, 25 items, 25 temporary items). Short-term records documenting security measures undertaken to protect classified information and the activities and resources allocated to support military operations. Included are records relating to such matters as investigations of security breaches, the protection of automated systems, signal security operations, the allocation and distribution of communications security material, and strategic and tactical planning for military operations. Also included are electronic copies of documents created using electronic mail and word processing. This schedule allows the agency to expedite disposal of these records, which previously were approved for disposal. It also authorizes the agency to apply the proposed disposition instructions to any recordkeeping medium.

3. Department of Defense, Defense Contract Audit Agency (N1-372-01-2, 4 items, 2 temporary items). Records pertaining to legal matters not related to the mission of the agency, including files pertaining to standards of conduct and conflict of interest that do not relate to actual cases in the agency. Included are legal opinions and related background materials. Proposed for permanent retention are recordkeeping copies of legal opinions relating to the mission of the agency and standards of conduct records relating to actual cases in the agency. The related electronic copies of documents created using electronic mail and word processing were previously approved for disposal.

4. Department of Defense, Defense Contract Audit Agency, Agency-wide (N1-372-02-1, 6 items, 6 temporary items). Records relating to the use of Government charge cards for obtaining small purchase items. Included are such records as receipts, statements of charges and amounts due, certifications of payments to be made, and electronic copies of records created using electronic mail and word processing.

5. Department of Defense, National Imagery and Mapping Agency (N1-537-01-4, 65 items, 65 temporary items). Paper and electronic records relating to safety, health, and environmental matters, including electronic copies of documents created using electronic mail and word processing. Records relate to general medical and health matters, industrial hygiene, safety programs, fire prevention, and environmental protection.

6. Department of the Navy, Agency-wide. (N1-NU-02-1, 13 items, 9 temporary items). Records relating to investigations or inquiries conducted by the Navy Inspector General. Included are such records as case files, final investigative reports, working papers, correspondence, and final reports. Also included are electronic copies of documents created using electronic mail and word processing and a database used for tracking the progress of each investigation. Recordkeeping copies of historically significant case files are proposed for permanent retention.

7. Department of the Navy, Agency-wide, (N1-NU-02-2, 3 items, 3 temporary items). Records relating to non-combat counterintelligence investigations and inquiries conducted in order to determine the suitability of U.S. citizens and foreign nationals for base access and employment purposes. Also included are electronic copies of records created using electronic mail and word processing.

8. Federal Emergency Management Agency, Agency-wide (N1-311-01-1, 5 items, 4 temporary items). Records relating to pending legislation of interest to the agency, including electronic copies of records created using electronic mail and word processing. Proposed for permanent retention are recordkeeping copies of files, accumulated in the Office of General Counsel and the Office of Congressional and Legislative Affairs, that pertain to legislation that directly affects the agency's enabling legislation.

9. Federal Emergency Management Agency, Mitigation Directorate (N1-311-01-7, 5 items, 5 temporary items). Records relating to disaster response, including grant administration records relating to disaster response. Also included are records relating to FEMA activities to reduce and mitigate losses in future disasters including hazard mitigation, technical assistance, grants and agreements securing the development rights of disaster-prone parcels of land. Also included are electronic copies of documents created using electronic mail and word processing.

10. Federal Retirement Thrift Investment Board, Office of Automated Systems (N1-474-01-1, 2 items, 2 temporary items). Web site feedback records and statistical reports on web site utilization. This schedule reduces the retention period for the recordkeeping copies of these files, which were previously approved for disposal. Also included are electronic copies of documents created using electronic mail and word processing.

11. National Archives and Records Administration, Agency-wide (N1-64-02-2, 2 items, 2 temporary items). Security backups for agency desktop computer applications created and maintained to restore the system in the event of a system failure or other unintentional loss of data.

12. National Archives and Records Administration, Access Programs (N1-64-02-3, 3 items, 3 temporary items). Electronic systems containing researcher application information and data recording the movement of researchers within the agency's research complex in College Park, Maryland.

13. National Credit Union Administration, Agency-wide (N1-413-02-1, 10 items, 8 temporary items). Subject files, chronological files, and regional files, accumulated by offices other than the Office of the Board, and individual working files. Also included are electronic copies of documents created using electronic mail and word processing. Recordkeeping copies of agency directives and operating manual case files created in central and regional offices are proposed for permanent retention.

14. Nuclear Regulatory Commission, Office of the Secretary of the Commission (N1-431-01-2, 51 items, 39 temporary items). Electronic records in the Commission's Agencywide Document Access and Management System (ADAMS) accumulated by the Office of the Secretary of the Commission, including electronic copies of records created using office automation tools and of records used to create ADAMS portable document format files. Records proposed for disposal include electronic recordkeeping copies of records related to committees and conferences for which the agency is not the sponsor, routine correspondence files, and rulemaking docket files. Paper copies of these records were previously approved for disposal. Series proposed for permanent retention include recordkeeping copies of such files as decisional dockets, records relating to committees and conferences sponsored by the agency, program correspondence at the Commission level, rulemaking records, and transcripts of Commission meetings.

15. Office of Personnel Management, Office of the Chief Information Officer (N1-478-02-1, 8 items, 8 temporary items). Year 2000 (Y2K) project records, including such records as plans, test documentation, correspondence, reports, and electronic copies of records created using electronic mail and word processing.

Dated: December 4, 2001.
Michael J. Kurtz,
Assistant Archivist for Record Services—Washington, DC.

[FR Doc. 01-30436 Filed 12-7-01; 8:45 am]

BILLING CODE 7515-01-U